DEPARTMENT OF ENERGY

Federal Energy Regulatory Commission

Combined Notice of Filings #1

Take notice that the Commission received the following electric rate filings:

Docket Numbers: ER10-2278-001; ER10-2277-001; ER10-3203-001.

Applicants: Cogentrix Virginia Leasing Corporation.

Description: Supplement to Updated Market Power Analysis and Request for Category 1 Seller Status of Portsmouth Genco, LLC, et al.

Filed Date: 12/28/11.

Accession Number: 20111228-5033.

Comments Due: 5 p.m. ET 1/18/12.

Docket Numbers: ER10-2566-002.

Applicants: Duke Energy Carolinas, LLC.

Description: Notice of change in status of Duke Energy Carolinas, LLC.

Filed Date: 12/27/11.

Accession Number: 20111227-5124.

Comments Due: 5 p.m. ET 1/17/12.

Docket Numbers: ER12-698-000.

Applicants: PJM Interconnection, L.L.C.

Description: Original Service Agreement No. 3159; Queue No. W2-073 to be effective 12/1/2011.

Filed Date: 12/27/11.

Accession Number: 20111227-5094.

Comments Due: 5 p.m. ET 1/17/12.

Docket Numbers: ER12-699-000.

Applicants: ALLETE, Inc.

Description: Notice of Termination of ALLETE, Inc.—Superior Water, Light and Power Company ESA.

Filed Date: 12/27/11.

Accession Number: 20111227-5121.

Comments Due: 5 p.m. ET 1/17/12.

Docket Numbers: ER12-700-000.

Applicants: Central Vermont Public Service Corporati, ISO New England Inc.

Description: CVPS, ISO-NE and Public Serv. Co of NH Local Service Agreement No. 69 to be effective 1/1/2012.

Filed Date: 12/28/11.

Accession Number: 20111228-5011.

Comments Due: 5 p.m. ET 1/18/12.

Docket Numbers: ER12-701-000.

Applicants: New York Independent System Operator, Inc.

Description: NYISO Tariff Revisions re: Coordinated Transaction Scheduling to be effective 12/31/9998.

Filed Date: 12/28/11.

Accession Number: 20111228-5026.

Comments Due: 5 p.m. ET 1/18/12.

Docket Numbers: ER12-702-000.

Applicants: PacifiCorp.

Description: PacifiCorp submits tariff filing per 35.15: Termination of CEP Funding Point to Point Transmission Agreements to be effective 1/12/2012.

Filed Date: 12/28/11.

Accession Number: 20111228-5035.

Comments Due: 5 p.m. ET 1/18/12.

Docket Numbers: ER12-703-000.

Applicants: PJM Interconnection, L.L.C.

Description: PJM Interconnection, L.L.C. submits tariff filing per 35.13(a)(2)(iii: Original Service Agreement No. 3168 ? PJM Queue # W2-049 to be effective 11/28/2011.

Filed Date: 12/28/11.

Accession Number: 20111228-5065.

Comments Due: 5 p.m. ET 1/18/12.

Docket Numbers: ER12-704-000.

Applicants: Pacific Gas and Electric Company.

Description: Pacific Gas and Electric Company submits tariff filing per 35.13(a)(2)(iii: Lathrop Irrigation District IA and WDT SA to be effective 1/1/2012.

Filed Date: 12/28/11.

Accession Number: 20111228-5077.

Comments Due: 5 p.m. ET 1/18/12.

Docket Numbers: ER12-705-000.

Applicants: ITC Midwest LLC.

Description: ITC Midwest LLC submits tariff filing per 35.13(a)(2)(iii: Filing of a Notice of Succession to be effective 2/28/2012.

Filed Date: 12/28/11.

Accession Number: 20111228-5079.

Comments Due: 5 p.m. ET 1/18/12.

Take notice that the Commission received the following public utility holding company filings:

Docket Numbers: PH12-5-000.

Applicants: The AES Corporation.

Description: FERC-65B Notice of Material Change in Facts for The AES Corporation.

Filed Date: 12/28/11.

Accession Number: 20111228-5029.

Comments Due: 5 p.m. ET 1/18/12.

The filings are accessible in the Commission's eLibrary system by clicking on the links or querying the docket number.

Any person desiring to intervene or protest in any of the above proceedings must file in accordance with Rules 211 and 214 of the Commission's Regulations (18 CFR 385.211 and 385.214) on or before 5 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: December 28, 2011.
Nathaniel J. Davis, Sr.,
Deputy Secretary.

[FR Doc. 2011-33828 Filed 1-4-12; 8:45 am]

BILLING CODE 6717-01-P